FEDERAL COMMUNICATIONS COMMISSION

[Report No. 2541]

Petitions for Reconsideration of Action in Rulemaking Proceedings

March 21, 2002.

Petitions for Reconsideration have been filed in the Commission's rulemaking proceedings listed in this Public Notice and published pursuant to 47 CFR Section 1.429(e). The full text of these documents are available for viewing and copying in Room CY-A257, 445 12th Street, SW., Washington, DC or may be purchased from the Commission's copy contractor, Qualex International (202) 863-2893. Oppositions to these petitions must be filed by April 15, 2002. See Section 1.4(b)(1) of the Commission's rules (47 CFR 1.4(b)(1). Replies to an opposition must be filed within 10 days after the time for filing oppositions has expired.

Subject: Amendment of FM Table of Allotments (MM Docket No. 01-5).

Number of Petitions Filed: 1.

Subject: Amendment of the Digital TV Table of Allotments (MM Docket No. 00-121, RM-9674).

Number of Petitions Filed: 1.

William F. Caton,
Acting Secretary.

[FR Doc. 02-7566 Filed 3-28-02; 8:45 am]

BILLING CODE 6712-01-M